SECURITIES AND EXCHANGE COMMISSION

17 CFR Part 240

[Release No. 34-68071; File No. S7-08-12]

RIN 3235-AL12

Capital, Margin, and Segregation Requirements for Security-Based Swap Dealers and Major Security-Based Swap Participants and Capital Requirements for Broker-Dealers

Correction

In proposed rule document 2012-26164, appearing on pages 70214-70354 in the issue of Friday, November 23, 2012, make the following correction:

§ 240.15c3-1 [Corrected]

On page 70330, the table is reprinted in its entirety as set forth below.

Length of time to maturity of CDS contract | Basis point spread: 100 or less (%) | Basis point spread: 101-300 (%) | Basis point spread: 301-400 (%) | Basis point spread: 401-500 (%) | Basis point spread: 501-699 (%) | Basis point spread: 700 or more (%)
12 months or less | 1.00 | 2.00 | 5.00 | 7.50 | 10.00 | 15.00
13 months to 24 months | 1.50 | 3.50 | 7.50 | 10.00 | 12.50 | 17.50
25 months to 36 months | 2.00 | 5.00 | 10.00 | 12.50 | 15.00 | 20.00
37 months to 48 months | 3.00 | 6.00 | 12.50 | 15.00 | 17.50 | 22.50
49 months to 60 months | 4.00 | 7.00 | 15.00 | 17.50 | 20.00 | 25.00
61 months to 72 months | 5.50 | 8.50 | 17.50 | 20.00 | 22.50 | 27.50
73 months to 84 months | 7.00 | 10.00 | 20.00 | 22.50 | 25.00 | 30.00
85 months to 120 months | 8.50 | 15.00 | 22.50 | 25.00 | 27.50 | 40.00
121 months and longer | 10.00 | 20.00 | 25.00 | 27.50 | 30.00 | 50.00

[FR Doc. C1-2012-26164 Filed 11-29-12; 8:45 am]

BILLING CODE 1505-01-D